DEPARTMENT OF COMMERCE

National Oceanic and Atmospheric Administration

RIN 0648-XC521

Marine Mammals; File No. 16632

AGENCY: National Marine Fisheries Service (NMFS), National Oceanic and Atmospheric Administration (NOAA), Commerce.

ACTION: Notice; issuance of permit.

SUMMARY: Notice is hereby given that a permit has been issued to the NMFS Pacific Islands Fisheries Science Center (PIFSC), Hawaiian Monk Seal Research Program, 1845 Wasp Boulevard, Building 176, Honolulu, HI 96818 (Responsible Party: Frank Parish, Ph.D.), to conduct research and enhancement on Hawaiian monk seals (Monachus schauinslandi).

ADDRESSES: The permit and related documents are available for review on the following Web site: http://www.nmfs.noaa.gov/pr/permits/monkseal16632.htm; or, upon written request or by appointment in the Permits and Conservation Division, Office of Protected Resources, NMFS, 1315 East-West Highway, Room 13705, Silver Spring, MD 20910; phone (301)427-8401; fax (301)713-0376.

FOR FURTHER INFORMATION CONTACT: Amy Sloan or Courtney Smith, (301)427-8401.

SUPPLEMENTARY INFORMATION: On March 1, 2013, notice was published in the Federal Register (78 FR 13863) that a request for a permit to conduct research and enhancement on Hawaiian monk seals had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16632-00 authorizes the PIFSC to carry out research and enhancement activities designed to conserve and recover the endangered Hawaiian monk seal. Activities may occur on beaches and in nearshore waters throughout the Hawaiian Archipelago (Northwestern Hawaiian Islands [NWHI] and main Hawaiian Islands [MHI]) and Johnston Atoll, and in facilities housing captive monk seals. Research activities include visual and photographic monitoring, tagging, pelage bleach marking, health screening, foraging studies, deworming research, experimental translocation, necropsies, tissue sampling, import/export of parts, behavioral modification research, and vaccination research. Enhancement activities include translocations (excluding two-stage translocations involving moving young seals from the NWHI and releasing them in the MHI), hazing and removal of aggressive adult male seals that harm or kill other seals, disentangling, dehooking, deworming, treating injured seals in-situ, behavioral modification, vaccination, and supplemental feeding of post-release rehabilitated seals. Incidental harassment of monk seals, bottlenose dolphins (Tursiops truncatus), and spinner dolphins (Stenella longistrostris) is authorized. Research studies may also be conducted on seals in captivity. The permit expires on June 30, 2019.

In compliance with the National Environmental Policy Act of 1969 (42 U.S.C. 4321 et seq.), NMFS has determined that the activities proposed in Permit No. 16632-00 are consistent with the Preferred Alternative (Alternative 3: Limited Translocation) in the Final Programmatic Environmental Impact Statement for Hawaiian monk seal Recovery Actions (http://www.nmfs.noaa.gov/pr/permits/eis/hawaiianmonksealeis.htm), and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: June 18, 2014.
Tammy C. Adams,
Acting Chief, Permits and Conservation Division, Office of Protected Resources, National Marine Fisheries Service.

[FR Doc. 2014-14626 Filed 6-23-14; 8:45 am]

BILLING CODE 3510-22-P